Title 3—

The President

Proclamation 7701 of September 4, 2003

National Days of Prayer and Remembrance, 2003

By the President of the United States of America

A Proclamation

As we approach the second anniversary of September 11, 2001, we remember all that we lost as Americans and recognize all that we have witnessed about the character of America. During these National Days of Prayer and Remembrance, we honor those who were killed and their families, and we ask God for strength and wisdom as we carry out the noble mission that our Nation began that morning.

The passage of time cannot erase the pain and devastation that were inflicted on our people. We will always remember those who were brutally taken from us. And we ask God to comfort the loved ones left behind; their courage and determination have inspired our Nation.

We thank God for the unity and compassion Americans have demonstrated since September 11, 2001. The great strength of America is the heart and soul of the American people. And we will continue to help those who are hurting or are in need.

We pray that God watch over our brave men and women in uniform. We are grateful to them, and to their families, for their service and sacrifice. We pray for peace and ask God for patience and resolve in our war against terror and evil.

This conflict was begun on the timing and terms of others. It will end in a way, and at an hour, of our choosing.

NOW, THEREFORE, I, GEORGE W. BUSH, President of the United States of America, by virtue of the authority vested in me by the Constitution and laws of the United States, do hereby proclaim Friday, September 5, through Sunday, September 7, 2003, as National Days of Prayer and Remembrance. I ask that the people of the United States and places of worship mark these National Days of Prayer and Remembrance with memorial services, the ringing of bells, and evening candlelight remembrance vigils. I invite the people of the world to share in these Days of Prayer and Remembrance.

IN WITNESS WHEREOF, I have hereunto set my hand this fourth day of September, in the year of our Lord two thousand three, and of the Independence of the United States of America the two hundred and twenty-eighth.

B

[FR Doc. 03-23089

Filed 9-8-03; 8:45 am]

Billing code 3195-01-P